DEPARTMENT OF TRANSPORTATION

Federal Aviation Administration

14 CFR Part 39

[Docket No. FAA-2024-1687; Project Identifier AD-2024-00253-T; Amendment 39-22771; AD 2024-12-07]

RIN 2120-AA64

Airworthiness Directives; The Boeing Company Airplanes

AGENCY: Federal Aviation Administration (FAA), DOT.

ACTION: Final rule; request for comments.

SUMMARY: The FAA is adopting a new airworthiness directive (AD) for The Boeing Company Model 757-200 airplanes modified by particular supplemental type certificates. This AD was prompted by reports of cracking in the structure in and around the lavatory service panel. This AD requires repetitively inspecting the lavatory service panel, access pan, and attaching structure for cracks; reinforcing the attaching structure; and if necessary, replacing the access pan or repairing cracked parts. The FAA is issuing this AD to address the unsafe condition on these products.

DATES: This AD is effective July 11, 2024.

The Director of the Federal Register approved the incorporation by reference of a certain publication listed in this AD as of July 11, 2024.

The FAA must receive comments on this AD by August 12, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2024-1687; or in person at Docket Operations between 9 a.m. and 5 p.m., Monday through Friday, except Federal holidays. The AD docket contains this final rule, any comments received, and other information. The street address for Docket Operations is listed above.

Material Incorporated by Reference:

• For Precision Conversions LLC material, contact Precision Conversions LLC, 9800 SW Nimbus Ave., Beaverton, OR 97008; ATTN: Brent VanFossen; phone 503-601-3001; email brent.vanfossen@precisionaircraft.com.

• You may view this material at the FAA, Airworthiness Products Section, Operational Safety Branch, 2200 South 216th Street, Des Moines, WA. For information on the availability of this material at the FAA, call 206-231-3195. It is also available at regulations.gov under Docket No. FAA-2024-1687.

FOR FURTHER INFORMATION CONTACT: Joseph Zuklic, Aviation Safety Engineer, FAA, 2200 South 216th Street, Des Moines, WA 98198; phone 206-231-3858; email joseph.r.zuklic@faa.gov.

SUPPLEMENTARY INFORMATION:

Comments Invited

The FAA invites you to send any written data, views, or arguments about this final rule. Send your comments to an address listed under the ADDRESSES section. Include Docket No. FAA-2024-1687 and Project Identifier AD-2024-00253-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Joseph Zuklic, Aviation Safety Engineer, FAA, 2200 South 216th Street, Des Moines, WA 98198; phone 206-231-3858; email joseph.r.zuklic@faa.gov. Any commentary that the FAA receives that is not specifically designated as CBI will be placed in the public docket for this rulemaking.

Background

The FAA has received several reports of cracking in the structure in and around the lavatory service panel. The stress concentrations in the lavatory service panel access pan, the fuselage skin, and the stringer 22 (S-22R) attachment to the service panel are too high causing fatigue cracking. This condition, if not addressed, could result in an in-flight depressurization of the airplane, and reduced structural integrity of the aircraft. The FAA is issuing this AD to address the unsafe condition on these products.

FAA's Determination

The FAA is issuing this AD because the agency has determined the unsafe condition described previously is likely to exist or develop in other products of the same type design.

Related Material Under 1 CFR Part 51

The FAA reviewed Precision Conversions LLC Service Bulletin PC-757-53A0005, Revision 2, dated May 7, 2024. This material specifies procedures for a detailed visual and eddy current inspection of the lavatory service panel, access pan, and attaching structure for cracks. In addition, this material specifies procedures for reinforcing the attaching structure including the following repetitive inspections for cracks: repetitive detailed visual inspections of access pan corners; internal low-frequency eddy current (LFEC) inspections of the external skin around all fastener holes common to the access pan; and internal high-frequency eddy current (HFEC) or external LFEC inspections of the doubler-to-skin fastener holes, skin trim area, and lavatory service panel cover plate fastener holes. Corrective actions specified in this material include replacing the access pan and obtaining and following repair instructions, if necessary. This material is reasonably available because the interested parties have access to it through their normal course of business or by the means identified in the ADDRESSES section.

AD Requirements

This AD requires accomplishing the actions specified in the material already described, except as discussed under “Differences Between this AD and the Referenced Material,” and except for any differences identified as exceptions in the regulatory text of this AD.

Difference Between This AD and the Referenced Material

Precision Conversions Service Bulletin PC-757-53A0005, Revision 2, dated May 7, 2024, allows repetitive inspections as an option if no crack is found during the detailed visual inspection of the lavatory service panel, access pan fastener holes, S-22R stringer, and external skin (Condition 2, Option 1). However, the FAA received numerous reports of cracking in the structure in and around the lavatory service panel, necessitating reinforcement of the area within 2,000 flight cycles. Long-term inspections may not provide the degree of safety necessary for the affected fleet; thus, this AD does not allow for this inspection to be repeated and instead requires installing the reinforcement within 2,000 flight cycles after the initial inspection.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because fatigue cracking in the lavatory service panel, the fuselage skin, and/or stringer 22 could result in an in-flight depressurization of the airplane and reduced structural integrity of the aircraft. Several affected airplanes have already exceeded the flight cycle inspection threshold. In addition, the FAA received numerous reports of cracking in the structure in and around the lavatory service panel, supporting an increased likelihood of a decompression event on aircraft that are not reinforced. Because of the urgency of the unsafe condition, affected airplanes must be inspected within the grace period (3 months) allowed after the effective date of this AD. Accordingly, notice and opportunity for prior public comment are impracticable and contrary to the public interest pursuant to 5 U.S.C. 553(b)(3)(B).

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 13 airplanes of U.S. registry. The FAA estimates the following costs to comply with this AD:

Estimated Costs
Action | Labor cost | Parts cost | Cost per product | Cost on U.S. operators
Inspection | 8 work-hours × $85 per hour = $680 per inspection cycle | $0 | $680 per inspection cycle | $8,840 per inspection cycle.
Reinforcement installation | 38 work-hours × $85 per hour = $3,230 | 3,910 | 7,140 | 92,820.

The FAA estimates the following costs to do any replacement that would be required based on the results of the inspection. The FAA has no way of determining the number of aircraft that might need this replacement:

Action | Labor cost | Parts cost | Cost per product
Service pan replacement | 10 work-hours × $85 per hour = $850 | $250 | $1,100

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-12-07 The Boeing Company: Amendment 39-22771; Docket No. FAA-2024-1687; Project Identifier AD-2024-00253-T.

(a) Effective Date

This airworthiness directive (AD) is effective July 11, 2024.

(b) Affected ADs

None.

(c) Applicability

This AD applies to The Boeing Company Model 757-200 airplanes, certificated in any category, modified by supplemental type certificate ST01529SE or ST02278SE.

(d) Subject

Air Transport Association (ATA) of America Code 53, Fuselage.

(e) Unsafe Condition

This AD was prompted by reports of cracking in the structure in and around the lavatory service panel. The FAA is issuing this AD to address cracks in and around the lavatory service panel. The unsafe condition, if not addressed, could result in an in-flight depressurization of the airplane and reduced structural integrity of the aircraft.

(f) Compliance

Comply with this AD within the compliance times specified, unless already done.

(g) Requirements

Except as specified in paragraph (h) of this AD: Comply with all required actions and compliance times specified in, and in accordance with the Accomplishment Instructions of Precision Conversions Service Bulletin PC-757-53A0005, Revision 2, dated May 7, 2024.

(h) Exceptions to Service Information Specifications

(1) Where the table in the “Compliance” paragraph of Precision Conversions Service Bulletin PC-757-53A0005, Revision 2, dated May 7, 2024, refers to the original issue date of this service bulletin, this AD requires using the effective date of this AD.

(2) Where the table in the “Compliance” paragraph of Precision Conversions Service Bulletin PC-757-53A0005, Revision 2, dated May 7, 2024, specifies in Condition 2 Option 1 to repetitively inspect if no cracks are found, this AD does not allow repetitive inspections and requires installing reinforcement within 2,000 flight cycles after the initial inspection in accordance with Paragraph III, Part 3, Reinforcement, of Precision Conversions Service Bulletin PC-757-53A0005, Revision 2, dated May 7, 2024.

(3) Where Precision Conversions Service Bulletin PC-757-53A0005, Revision 2, dated May 7, 2024, specifies contacting Precision Engineering for instructions when specific conditions are found, this AD requires complying with those instructions by using a method approved in accordance with the procedures specified in paragraph (i) of this AD.

(i) Alternative Methods of Compliance (AMOCs)

(1) The Manager, West Certification Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) Except as required by paragraph (h) of this AD: For material that contains steps that are labeled as Required for Compliance (RC), the provisions of paragraphs (i)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Joseph Zuklic, Aviation Safety Engineer, FAA, 2200 South 216th Street, Des Moines, WA 98198; phone 206-231-3858; email joseph.r.zuklic@faa.gov.

(k) Material Incorporated by Reference

(1) The Director of the Federal Register approved the incorporation by reference (IBR) of the service information listed in this paragraph under 5 U.S.C. 552(a) and 1 CFR part 51.

(2) You must use this material as applicable to do the actions required by this AD, unless the AD specifies otherwise.

(i) Precision Conversions Service Bulletin PC-757-53A0005, Revision 2, dated May 7, 2024.

(ii) [Reserved]

(3) For Precision Conversions LLC material, contact Precision Conversions LLC, 9800 SW Nimbus Ave, Beaverton, OR 97008; ATTN: Brent VanFossen; phone 503-601-3001; email brent.vanfossen@precisionaircraft.com.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on June 11, 2024.
Suzanne Masterson,
Deputy Director, Integrated Certificate Management Division, Aircraft Certification Service.

[FR Doc. 2024-13936 Filed 6-21-24; 11:15 am]

BILLING CODE 4910-13-P